DEPARTMENT OF THE INTERIOR

Fish and Wildlife Service

[FWS-R2-R-2008-N0257; 20131-1265-2CCP-S3]

Texas Mid-Coast Refuge Complex, Brazoria and Matagorda Counties, TX

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for the Texas Mid-Coast Refuge Complex (Complex). The Complex consists of the following refuges: Brazoria and San Bernard, located in Brazoria County, and Big Boggy in Matagorda County, Texas. Discontinuous refuge parcels and conservation easements, located primarily within the forested bottomlands of the Brazos River, San Bernard River, and Colorado River basins, in Brazoria, Wharton, and Fort Bend counties, are also part of the Complex. We provide this notice in compliance with our CCP policy to advise other Federal and State agencies, Tribes, and the public of our intentions, and to obtain suggestions and information on the scope of issues to consider in the planning process.

DATES: To ensure consideration, we must receive your written comments by September 21, 2009. We will hold open house meetings during the scoping phase of the Draft CCP development process. We will announce the dates, times, and places for all meetings in the local media.

ADDRESSES: Comments, questions, and requests for more information regarding the planning process should be sent to: Carol Torrez, Biologist/Natural Resource Planner, U.S. Fish and Wildlife Service, Division of Planning, P.O. Box 1306, Albuquerque, NM 87103-1306. Comments may also be submitted via electronic mail to: carol_torrez@fws.gov.

FOR FURTHER INFORMATION CONTACT: Jennifer Sanchez, Project Leader, Telephone: 979-964-4011; Fax: 979-964-4021, or Carol Torrez, Biologist/Natural Resource Planner, Telephone: 505-248-6821, Fax: 505-248-6874.

SUPPLEMENTARY INFORMATION:

Introduction

With this notice, we initiate our process for developing a CCP for the Texas Mid-Coast Refuge Complex, which includes the following refuges: Brazoria and San Bernard, located in Brazoria County, and Big Boggy in Matagorda County, Texas. Discontinuous refuge parcels and conservation easements, located primarily within the forested bottomlands of the Brazos, San Bernard, and Colorado Rivers basins, are also part of the Complex.

This notice complies with our CCP policy to (1) advise other Federal and State agencies, Tribes, and the public of our intention to conduct detailed planning on these Refuges, and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each National Wildlife Refuge. The purpose for developing a CCP is to provide Refuge Managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of the Complex. Special mailings, newspaper articles, and other media outlets will be used to announce opportunities for input throughout the planning process.

We will conduct the EA in accordance with the requirements of the National Environmental Policy Act of 1969, as amended (NEPA) (42 U.S.C. 4321 et seq.); NEPA regulations (40 CFR parts 1500-1508); other appropriate Federal laws and regulations; and our policies and procedures for compliance with those laws and regulations.

Texas Mid-Coast Refuge Complex

The Complex is located along the upper Texas Gulf Coast and consists of three refuges (Brazoria, San Bernard, and Big Boggy NWRs), and parcels and conservation easements located throughout the Columbia Bottomlands region. All three of the Refuges are comprised largely of coastal marsh with tidal interchange along the Gulf of Mexico and were originally established for use as an inviolate sanctuary, or for any other management purpose, for migratory birds. These coastal marsh communities grade inland into coastal prairie, which gives way to bottomland forests along the rivers and bayous. The CCP will provide other agencies and the public with a clear understanding of the desired conditions for the Complex, and how the Service will implement management strategies for the conservation and development of these natural resources.

We estimate that the draft environmental documents will be available in 2010 for public review and comment.

Public Availability of Comments

Before including your address, phone number, e-mail address, or other personal identifying information in your comment, you should be aware that your entire comment, including your personal identifying information, may be made publicly available at any time. While you can ask us in your comment to withhold your personal identifying information from public review, we cannot guarantee that we will be able to do so.

Dated: May 1, 2009.
Brian Millsap,
Acting Regional Director, U.S. Fish and Wildlife Service, Albuquerque, New Mexico.

[FR Doc. E9-14566 Filed 6-22-09; 8:45 am]

BILLING CODE 4310-55-P